SECURITIES AND EXCHANGE COMMISSION

[File No. 500-1]

American Custom Components, Inc., Creditgroup Com, Inc. (n/k/a Tradex Global Financial Services, Inc.), Frederick Brewing Co., and Infinicall Corp., Respondents; Order of Suspension of Trading

November 24, 2008.

It appears to the Securities and Exchange Commission that there is a lack of current and accurate information concerning the securities of American Custom Components, Inc. because it has not filed any periodic reports since the period ended June 30, 1998.

It appears to the Securities and Exchange Commission that there is a lack of current and accurate information concerning the securities of Creditgroup Com, Inc. (n/k/a Tradex Global Financial Services, Inc.) because it has not filed any periodic reports since August 12, 1999.

It appears to the Securities and Exchange Commission that there is a lack of current and accurate information concerning the securities of Frederick Brewing Co. because it has not filed any periodic reports since the period ended September 30, 2002.

It appears to the Securities and Exchange Commission that there is a lack of current and accurate information concerning the securities of Infinicall Corp. because it has not filed any periodic reports since the period ended December 31, 2005.

The Commission is of the opinion that the public interest and the protection of investors require a suspension of trading in the securities of the above-listed companies.

Therefore, it is ordered, pursuant to Section 12(k) of the Securities Exchange Act of 1934, that trading in the securities of the above-listed companies is suspended for the period from 9:30 a.m. EST on November 24, 2008, through 11:59 p.m. EST on December 8, 2008.

By the Commission.
J. Lynn Taylor,
Assistant Secretary.

[FR Doc. E8-28253 Filed 11-24-08; 4:15 pm]

BILLING CODE 8011-01-P